DEPARTMENT OF AGRICULTURE

Submission for OMB Review; Comment Request

March 14, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Cooperative Agricultural Pest Survey.

OMB Control Number: 0579-0010.

Summary of Collection: The Plant Protection Act (7 U.S.C. 3301 et seq.) authorizes the Secretary of Agriculture, either independently or in cooperation with States, to carry out operations or measures to detect, eradicate, suppress, control, prevent, or retard the spread of plant pests and noxious weed that are new to or not yet widely distributed within the United States. The Animal and Plant Health Inspection Service (APHIS), Plant Protection and Quarantine (PPQ) have joined forces with the States to create a program called the Cooperative Agricultural Pest Survey. The program allows the States and PPQ to conduct surveys to detect and measure the presence of exotic plant pests and noxious weed and to enter survey data into a national computer-based system (National Agricultural Plant Information System).

Need and Use of the Information: APHIS will collect information using PPQ Form 391 and the information from the survey to predict potential plant pest and noxious weed situations and to promptly detect and respond to the occurrence of new pests and to record the location of those pest incursions that could directly hinder the export of U.S. farm commodities. If the information were not collected, it would seriously affect APHIS ability to timely assist farmers, State personnel, and others involved in agriculture and protection of the environment from the threat pose by migratory pests.

Description of Respondents: State, Local or tribal Government.

Number of Respondents: 155.

Frequency of Responses: Reporting: On occasion.

Total Burden Hours: 3,969.

Ruth Brown,
Departmental Information Collection Clearance Officer.

[FR Doc. E7-4919 Filed 3-16-07; 8:45 am]

BILLING CODE 3410-34-P